DEPARTMENT OF TRANSPORTATION

Notice of Final Federal Agency Actions on Proposed Highway Projects in Texas

AGENCY: Texas Department of Transportation (TxDOT), Federal Highway Administration (FHWA), U.S. Department of Transportation.

ACTION: Notice of limitation on claims for judicial review of actions by TxDOT and Federal agencies.

SUMMARY: This notice announces actions taken by TxDOT and Federal agencies that are final. The environmental review, consultation, and other actions required by applicable Federal environmental laws for these projects are being, or have been, carried-out by TxDOT pursuant to an assignment agreement executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway projects will be barred unless the claim is filed on or before the deadline. For the projects listed below, the deadline is 150 days from the date of publication. If the Federal law that authorizes judicial review of a claim provides a time period of less than 150 days for filing such a claim, then that shorter time period still applies.

FOR FURTHER INFORMATION CONTACT: Patrick Lee, Environmental Affairs Division, Texas Department of Transportation, 125 East 11th Street, Austin, Texas 78701; telephone: (512) 416-2358; email: Patrick.Lee@txdot.gov. TxDOT's normal business hours are 8:00 a.m.-5:00 p.m. (central time), Monday through Friday.

SUPPLEMENTARY INFORMATION: The environmental review, consultation, and other actions required by applicable Federal environmental laws for these projects are being, or have been, carried-out by TxDOT pursuant to 23 U.S.C. 327 and a Memorandum of Understanding dated December 9, 2019, and executed by FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting the local TxDOT office at the address or telephone number provided for each project below.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1377] (Section 404, Section 401, Section 319); Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Executive Orders: E.O. 11990 Protection of Wetlands; E.O. 11988 Floodplain Management; E.O. 12898 Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. The Woodrow Road widening project extends from FM 1730 (Slide Road) to US 87 in Lubbock County, Texas. TxDOT plans to widen Woodrow Road by converting the existing two-way rural roadway to a five-lane urban facility with right-turn lanes at major intersections. Shared-use paths and sidewalks with ADA ramps will be constructed throughout the project. This project is approximately 4.75 miles in length and will improve transportation infrastructure to current design standards and improve mobility in southern Lubbock County. The actions by TxDOT and Federal agencies and the laws under which such actions were taken are described in the Categorical Exclusion Determination issued on September 7, 2021, and other documents in the TxDOT project file. The Categorical Exclusion Determination and other documents in the TxDOT project file are available by contacting the TxDOT Lubbock District Office at 135 Slaton Road, Lubbock, Texas 79404; telephone (806)748-4472.

2. SH 30 from 2,225-ft west of Gibbons Creek to 2,225-ft east of Gibbons Creek, Grimes County, Texas. The project would replace a bridge on SH 30 at Gibbons Creek. The proposed structure would be 86-ft wide and 550-ft long and would incorporate bridge and approach rails that meet current standards. The proposed bridge would be shifted slightly north of the current alignment and the project would require 3.854 ac of new right-of-way. The purpose of the proposed project is to improve safety by bringing the bridge and approaches up to current standards. The actions by TxDOT and Federal agencies and the laws under which such actions were taken are described in, the Categorical Exclusion Determination issued on September 23, 2021 and other documents in the TxDOT project file. The Categorical Exclusion Determination and other documents in the TxDOT project file are available by contacting TxDOT at the address provided above or the TxDOT Bryan District Office at 2591 North Earl Rudder Fwy, Bryan, TX 77803; telephone (979)778-9764.

3. Center Street from Kohlers Crossing to Burleson Street, Hays County. The project proposes to replace existing UPRR rail siding through downtown Kyle from Kohlers Crossing to Burleson Street. The project is approximately two miles in length. The actions by TxDOT and Federal agencies and the laws under which such actions were taken are described in the Categorical Exclusion Determination issued on October 1, 2021, and other documents in the TxDOT project file. The Categorical Exclusion Determination and other documents in the TxDOT project file are available by contacting the TxDOT Austin District Office at 7901 North I-35, Austin, TX 78753; telephone 512-832-7000.

4. FM 1560 from FM 471 to SH 16 in Bexar County, Texas. The project includes expanding the existing roadway from two to four lanes with a raised median or center turn lane and constructing bike lanes and sidewalks along the entire length of the project. The project is approximately 5.2 miles in length. The actions by TxDOT and Federal agencies and the laws under which such actions were taken are described in the Categorical Exclusion Determination issued on October 7, 2021, and other documents in the TxDOT project file. The Categorical Exclusion Determination and other documents in the TxDOT project file are available by contacting the TxDOT San Antonio District Office at 4615 NW Loop 410, San Antonio, TX 78229; telephone (210) 615-5839.

5. William Cannon Drive from McKinney Falls Parkway to Running Water Drive, Travis County. The project will improve William Cannon Drive from a two-lane undivided urban roadway to a four-lane divided urban roadway with bicycle and pedestrian accommodations. The project is approximately 0.88 miles in length. The actions by TxDOT and Federal agencies and the laws under which such actions were taken are described in the Categorical Exclusion Determination issued on October 13, 2021, and other documents in the TxDOT project file. The Categorical Exclusion Determination and other documents in the TxDOT project file are available by contacting the TxDOT Austin District Office at 7901 North I-35, Austin, TX 78753; telephone 512-832-7000.

6. SH 80 from SH 123 to BU 181E, in Karnes County, Texas. The purpose of the project is to improve mobility along SH 80 by widening and rehabilitating SH 80 between SH 123 and BU 181E. The proposed project would involve widening and reconstruction of the main lanes, adding a continuous center left turn lane, and including pedestrian accommodations and replacement of traffic signals in portions of the project area, for approximately 1.8 miles. The actions by TxDOT and Federal agencies and the laws under which such actions were taken are described in the Categorical Exclusion Determination issued on October 15, 2021 and other documents in the TxDOT project file. The Categorical Exclusion Determination and other documents in the TxDOT project file are available by contacting TxDOT at the address provided above or the TxDOT Corpus Christi District Office at 1701 South Padre Island Drive, Corpus Christi, TX 78416; telephone (361) 808-2500.

7. IH 45 Frontage Road Conversion and Ramp Relocation, 1.6 Miles North of FM 27 to 1.5 Miles South of US 84, Freestone County, Texas. Construction includes ramp reconfiguration, frontage road rehabilitation, frontage road realignment, new location frontage road, and intersection improvements. The project would encompass 107.8 acres of disturbed construction activity. This project would require approximately 6.44 acres of new ROW along the east side of the existing ROW. There are four proposed northbound new location ramps as follows: Exit ramps to Church Street, US 84, and FM 27. Also, a re-constructed entrance ramp from FM 27. There are five proposed southbound ramps as follows: New location, entrance ramp from Church Street, and new location exit ramps to Church Street, to US 84, to FM 27 with a 2-way westbound frontage road, and a new location exit ramp to the 2-way west frontage road north of the FM 27 exit ramp. All ramps would consist of a 14-ft travel lane with 6-ft outside shoulders and 2-ft inside shoulders. The IH 45 east side Frontage Road will be realigned at US 84 and FM 27. The remaining existing IH 45 East Frontage Road pavement will be rehabilitated. The IH 45 east side Frontage Road will be extended from Church Street to US 84. The IH 45 west side Frontage Road will be realigned at Church Street, US 84, and FM 27. The remaining existing IH 45 west side Frontage Road pavement will be rehabilitated. Between US 84 and FM 27 the east and west frontage roads would consist of two 12-ft one-way travel lanes with 4-ft inside and outside shoulders, and the outside shoulder would be bounded with curb and gutter. Behind the curb sections there may be an offset of approximately 0 to 5 ft, and 10-ft shared use path. Both the IH 45 east side and west side frontage roads will be converted to one-way operation from Church Street to FM 27. Two-way operation will remain south of Church Street and north of FM 27 on the west side frontage road. Both east side and west side frontage roads would consist of two 12-ft travel lanes with 4-ft shoulders bounded by open ditches. The actions by TxDOT and Federal agencies and the laws under which such actions were taken are described in the Categorical Exclusion Determination issued on October 22, 2021, and other documents in the TxDOT project file. The Categorical Exclusion Determination and other documents in the TxDOT project file are available by contacting the TxDOT Bryan District at 2591 N Earl Rudder Fwy, Bryan, TX 77803; telephone (979) 778-9764.

8. Interstate Highway 35 (I-35), from north of SE Inner Loop to south of RM 1431 (southbound), Williamson County, Texas. This project will take place in the cities of Georgetown and Round Rock along 4.4 miles of I-35. The project will involve various improvements to I-35, SE Inner Loop, and Westinghouse Road. The project includes: Removing the Westinghouse Road bridge and constructing a new I-35 bridge over Westinghouse Road; constructing westbound to southbound Continuous Flow Intersection at Westinghouse Road; improving intersection at I-35 and SE Inner Loop; improve existing southbound I-35 frontage road from north of SE Inner Loop to RM 1431; reversing entrance/exit ramps along the southbound I-35 frontage road between SE Inner Loop and RM 1431; and improving bicycle and pedestrian sidewalks and paths. The actions by TxDOT and Federal agencies and the laws under which such actions were taken are described in the Categorical Exclusion Determination issued on November 9, 2021, and other documents in the TxDOT project file. The Categorical Exclusion Determination and other documents in the TxDOT project file are available by contacting the TxDOT Austin District Office at 7901 North I-35, Austin, TX 78753; telephone: (512) 832-7000.

9. US 59 Loop North from International Blvd. to 0.12 miles south of East Corridor Rd. in Webb County, Texas. This proposed project would upgrade the existing US 59 roadway to a full urban interstate expressway with three 12-ft. wide main lanes with 4-ft. wide inside shoulders and 10-ft. wide outside shoulders in each direction separated by an approximately 3-ft. tall concrete traffic barrier. One-direction frontage roads would consist of three 12-foot lanes with 4-foot wide inside shoulders and 2-foot wide outside shoulders. There would be main lane overpasses at each of the major arterial street intersections at (from north to south) Shiloh Road, Del Mar Boulevard, University Drive, and Jacaman Road. Storm water drainage would typically be via a mix of grass-lined open ditches and underground separate storm sewers that would outfall into storm water detention ponds that will be constructed adjacent to the proposed project. The actions by TxDOT and Federal agencies and the laws under which such actions were taken are described in the Final Environmental Assessment (EA) the Finding of No Significant Impact (FONSI) issued on 9/01/2021, and other documents in the TxDOT project file. The EA, FONSI and other documents in the TxDOT project file are available by contacting the TxDOT Laredo District Office at 1817 Bob Bullock Loop, Laredo, TX 78043, ATTN Raul Leal- Laredo District Public Information Officer; telephone: 956-712-7416; email: Raul.Leal@txdot.gov. The EA can also be viewed and downloaded from the following website: https://www.txdot.gov/inside-txdot/projects/studies/laredo/092021.html.

10. I-35 Capital Express North from SH 45N to US 290E, Travis and Williamson Counties. The project will add one non-tolled managed lane in each direction, reconstruct intersections and bridges to accommodate the additional lane and increase east/west mobility, add a diverging diamond interchange at Wells Branch Parkway, improve bicycle and pedestrian accommodations along I-35 frontage roads and at east/west crossings and make additional safety and mobility improvements. The project is approximately 11.5 miles in length. The actions by TxDOT and Federal agencies and the laws under which such actions were taken are described in the Final Environmental Assessment (EA), Finding of No Significant Impact (FONSI) issued on December 17, 2021 and other documents in the TxDOT project file. The EA, FONSI and other documents in the TxDOT project file are available by contacting the TxDOT Austin District Office at 7901 North I-35, Austin, TX 78753; telephone: 512-832-7000. The EA and FONSI can also be viewed and downloaded from the following website: https://my35capex.com/.

11. I-35 Capital Express South from US 290W/SH 71 to SH 45SE, Travis and Hays Counties. The project would add two non-tolled high-occupancy managed lanes in each direction. The managed lanes would be elevated from north of Stassney Lane to south of William Cannon Drive. Additionally, the project would reconstruct bridges, add auxiliary lanes, improve bicycle and pedestrian accommodations along I-35 frontage roads and includes other safety and mobility improvements. The project is approximately 10 miles in length. The actions by TxDOT and Federal agencies and the laws under which such actions were taken are described in the Final Environmental Assessment (EA), Finding of No Significant Impact (FONSI) issued on December 21, 2021, and other documents in the TxDOT project file. The EA, FONSI and other documents in the TxDOT project file are available by contacting the TxDOT Austin District Office at 7901 North I-35, Austin, TX 78753; telephone: 512-832-7000. The EA and FONSI can also be viewed and downloaded from the following website: https://my35capex.com/.

Authority: 23 U.S.C. 139(l)(1).

Michael T. Leary,
Director, Planning and Program Development, Federal Highway Administration.

[FR Doc. 2022-01448 Filed 1-27-22; 8:45 am]

BILLING CODE 4910-22-P